DEPARTMENT OF COMMERCE

National Oceanic and Atmospheric Administration

[I.D. 022103E]

Gulf of Mexico Fishery Management Council; Public Meeting

AGENCY: National Marine Fisheries Service (NMFS), National Oceanic and Atmospheric Administration (NOAA), Commerce.

ACTION: Notice of public meetings.

SUMMARY: The Gulf of Mexico, South Atlantic, and Caribbean Fishery Management Councils (Councils), in cooperation with NMFS's Southeast Fisheries Science Center, will hold a series of data workshops as part of the Southeast Data Assessment and Review (SEDAR) process.

DATES: The data workshops will be held in March 2003. See SUPPLEMENTARY INFORMATION for specific times and dates.

ADDRESSES: The meeting will be held at the Florida Marine Research Institute, 100 Eighth Avenue, Southeast, St. Petersburg, FL 33701-5095; telephone: 727-896-8626.

Copies of documents are available from the Gulf of Mexico Fishery Management Council, 3018 U.S. Highway 301 North, Suite 1000, Tampa, FL, 33619.

FOR FURTHER INFORMATION CONTACT: Phil Steele, National Marine Fisheries Service, Southeast Regional Office, 9721 North Executive Center Drive, St. Petersburg, FL, 33702; telephone 727-570-5305; fax 727-570-5583; e-mail: Phil.Steele@noaa.gov.

SUPPLEMENTARY INFORMATION: The Councils, in cooperation with NMFS's Southeast Fisheries Science Center, will hold a series of data workshops as part of the SEDAR process. The purpose of these data workshops will be to convene a select panel of scientists, industry representatives, and other knowledgeable persons to review available fishery data of all types on particular species, provide additional data that may not be presently known, and recommend data needs required for future stock assessments. Also, approaches to gather additional needed data will be identified.

Meeting Times

There will be three data workshops for each of the three species that are currently of interest to at least two of the Councils. The first data workshop will consider data for yellow tail snapper, which involves all three Councils. It will be held from 1 p.m. March 3, 2003, to 5 p.m. March 4, 2003. The second data workshop will be for goliath grouper and will also involve all three Councils. It will be held from 8 a.m. from March 5, 2003, to 12 noon on March 6, 2003. The third data workshop will be for vermilion snapper and will involve the Gulf of Mexico and Caribbean Fishery Management Councils. It will be held from 1 p.m. on March 6, 2003, to 5 p.m. March 7, 2003.

Copies of the agenda can be obtained by calling 813-228-2815.

Special Accommodations

This meeting is physically accessible to people with disabilities. Requests for sign language interpretation or other auxiliary aids should be directed to Anne Alford at the Council (see ADDRESSES) by February 25, 2003.

Dated: February 27, 2003.
Bruce C. Morehead,
Acting Director, Office of Sustainable Fisheries, National Marine Fisheries Service.

[FR Doc. 03-5069 Filed 2-27-03; 3:44 pm]

BILLING CODE 3510-22-S